DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground. Modified | Communities affected
Guadalupe County, Texas and Incorporated Areas Docket No.: FEMA-B-7461
Cibolo Creek | At intersection of IH 35 and Cibolo Creek | +755 | Guadalupe County (Unincorporated Areas), City of Schertz.
| At intersection of Lookout Road and Cibolo Creek | +763
Tributary No. 13 | At confluence with East Branch Dietz Creek and Cibolo Creek Tributary No. 13 | +728 | Guadalupe County (Unincorporated Areas), City of Cibolo.
| Approximately 2,500 feet upstream of the confluence with East Branch Dietz Creek and Cibolo Creek Tributary No. 13 | +776
Dietz Creek | Approximately 1,000 feet downstream of the confluence with Cibolo Tributary 11 and Dietz Creek | +692 | Guadalupe County (Unincorporated Areas), City of Cibolo, City of Schertz
| Approximately 2,700 feet upstream of the confluence with Cibolo Tributary 16 and Dietz Creek | +766
East Branch Dietz Creek | Approximately 1,000 feet downstream of the intersection with Borgfield Road and Turncreek Avenue | +693 | Guadalupe County (Unincorporated Areas), City of Cibolo, City of Schertz
| Approximately 1,100 feet NE of the intersection of Old Weiderstein Road and Cibolo Valley Drive | +844
Geronimo Creek | Approximately 3,100 feet downstream of the confluence with Geronimo Creek and Geronimo Tributary 2 | +464 | Guadalupe County (Unincorporated Areas), City of Seguin.
| Approximately 2,000 feet downstream of the confluence with Geronimo Creek and Geronimo Creek Tributary 2 | +464
Guadalupe River | At confluence with Geronimo Creek and Guadalupe River | +464 | Guadalupe County (Unincorporated Areas), City of Seguin.
| Approximately 250 feet downstream of East County Line Road | +598
Town Creek | Approximately 350 feet downstream of Dean Road and Town Creek | +784 | Guadalupe County (Unincorporated Areas), City of Cibolo.
| Approximately 1,300 feet upstream of Dean Road and Town Creek | +814
Tributary 1 | At confluence with Town Creek and Town Creek Tributary 1 | +708 | Guadalupe County (Unincorporated Areas), City of Cibolo.
| At Intersection of FM 1103 Road and Brite Road | +712
Walnut Branch | At confluence with Walnut Branch and Guadalupe River | +492 | Guadalupe County (Unincorporated Areas).
| Approximately 1,500 feet upstream of McQueeny Dam | +548
* National Geodetic Vertical Datum.
+ National American Vertical Datum.
# Depth in feet above ground.
ADDRESSES
Guadalupe County (Unincorporated Areas)
Maps are available for inspection at Maintenance Building, 415 East Donegan Street, Seguin, TX 78155.
Send comments to the Honorable Donald Schraub, County Judge, Guadalupe County, County Courthouse, Seguin TX 78155.
City of Cibolo
Maps are available for inspection at 109 South Main Street, Cibolo, TX 78108.
Send comments to the Honorable Johnny Sutton, Mayor, City of Cibolo, P.O. Box 826, Cibolo, TX 78108.
City of Schertz
Maps are available for inspection at Public Works Building, 10 Commercial Place, TX 78154.
Send comments to the Honorable Hal Baldwin, Mayor, City of Schertz, 1400 Schertz Parkway, Schertz, TX 78154.
City of Seguin
Maps are available for inspection at 210 East Gonzales, Seguin, TX 78155.
Send comments to the Honorable Betty Ann Maties, Mayor, City of Seguin, P.O. Box 581, Seguin, TX 78155.
Guadalupe County, Texas, and Incorporated Areas Docket No.: FEMA-B-7702
Cibolo Creek | Approximately 7500 feet downstream from intersection with I-35 | +740 | City of Selma.
| Approximately 4800 feet upstream from intersection with I-35 | +763
Dietz Creek | Approximately 2000 feet downstream of I-35 | +751 | City of Selma.
| Approximately 4000 feet upstream from I-35 | +767
Guadalupe River | Approximately 2500 feet upstream from Confluence with Long Creek | +558 | City of Braunfels.
| At East County Line Road | +598
* National Geodetic Vertical Datum.
+ North American Vertical Datum.
# Depth in feet above ground.
ADDRESSES
City of New Braunfels
Maps are available for inspection at 424 South Castell, New Braunfels, TX 78130.
Send comments to The Honorable Bruce Boyer, Mayor, City of New Braunfels, 424 South Castell, New Braunfels, TX 78130.
City of Selma
Maps are available for inspection at 9375 Corporate Dr, Selma, TX 78154.
Send comments to The Honorable James Parma, Mayor, City of Selma, 9375 Corporate Dr, Schertz, TX 78154.

Catalog of Federal Domestic Assistance No. 83.100, “Flood Insurance.”)

Dated: May 11, 2007.
David I. Maurstad,
Federal Insurance Administrator of the National Flood Insurance Program, Federal Emergency Management Agency, Department of Homeland Security.

[FR Doc. E7-9783 Filed 5-21-07; 8:45 am]

BILLING CODE 9110-12-P